DEPARTMENT OF HOMELAND SECURITY

Coast Guard

[USCG-2005-20718]

National Boating Safety Advisory Council; Charter Renewal

AGENCY: Coast Guard, DOT.

ACTION: Notice of charter renewal.

SUMMARY: The Secretary of Homeland Security has renewed the charter of the National Boating Safety Advisory Council (NBSAC) for 2 years from January 17, 2005, until January 17, 2007. NBSAC is a committee under the Federal Advisory Committee Act, 5 U.S.C. App. 2, that advises the Coast Guard on the need for Federal regulations and other major boating safety matters.

ADDRESSES: You may request a copy of the charter by writing to Commandant (G-OPB-1), U.S. Coast Guard Headquarters, 2100 Second Street, SW., Washington, DC 20593-0001; by calling 202-267-1077; or by faxing 202-267-4285. This notice and the charter are available on the Internet at http://dms.dot.gov.

FOR FURTHER INFORMATION CONTACT: Mr. Phil Cappel, Executive Director of NBSAC, telephone 202-267-0988, fax 202-267-4285.

Dated: March 24, 2005.
James W. Underwood,
Rear Admiral, U.S. Coast Guard, Director of Operations Policy.

[FR Doc. 05-6478 Filed 3-31-05; 8:45 am]

BILLING CODE 4910-15-P